DEPARTMENT OF COMMERCE

National Oceanic and Atmospheric Administration

RIN 0648-XH17

Atlantic Highly Migratory Species (HMS); Atlantic Shark Management Measures; Research Fishery

AGENCY: National Marine Fisheries Service (NMFS), National Oceanic and Atmospheric Administration (NOAA), Commerce.

ACTION: Notice of intent; request for applications.

SUMMARY: NMFS announces its request for applications for the 2008 shark research fishery from commercial shark fishermen. The shark research fishery will allow for the collection of fishery-dependent data for future stock assessments while also allowing NMFS and commercial fishermen to conduct cooperative research to meet the shark research objectives for the Agency. Only commercial vessels participating in the shark research fishery would be able to land sandbar sharks. These vessels would also land non-sandbar large coastal sharks (LCS), small coastal sharks (SCS), and pelagic sharks. Commercial vessels not participating in the shark research fishery may only land non-sandbar LCS, SCS, and pelagic sharks. Commercial shark fishermen who are interested in participating in the shark research fishery need to submit a completed Shark Research Fishery Permit Application in order to be considered. Generally, these permits will be valid through December 31, 2008, unless otherwise specified, subject to the terms and conditions of individual permits.

DATES: Shark Research Fishery Applications must be received no latter than 5 p.m., local time, on July 15, 2008.

ADDRESSES: Please submit completed applications to the HMS Management Division at:

• Mail: HMS Management Division (F/SF1), NMFS, 1315 East-West Highway, Silver Spring, MD 20910.

• Fax: (301) 713-1917

For copies of the Shark Research Fishery Application please write to the HMS Management Division at the address listed above, or call (301) 713-2347 (phone), or (301) 713-1917 (fax). Copies of the Shark Research Fishery Application are also available at the HMS website at http://www.nmfs.noaa.gov/sfa/hms/index.htm.

FOR FURTHER INFORMATION CONTACT: LeAnn Southward Hogan or Jess Beck, at (301) 713-2347 (phone) or (301) 713-1917 (fax).

SUPPLEMENTARY INFORMATION: The Atlantic shark fisheries are managed under the authority of the Magnuson-Stevens Fishery Conservation and Management Act (Magnuson-Stevens Act). The Consolidated HMS Fishery Management Plan (FMP) is implemented by regulations at 50 CFR part 635.

The final rule for Amendment 2 to the Consolidated HMS FMP (published in the Rules section of today's Federal Register) established, among other things, a shark research fishery to maintain time series data for stock assessments and to meet NMFS' 2008 research objectives. The shark research fishery also allows selected commercial fishermen the opportunity to earn revenue from selling more sharks, including sandbar sharks, than allowed in the rest of the commercial shark fishery. Only the commercial shark fishermen selected to participate in the shark research fishery would be able to land/harvest sandbars subject to the sandbar quota available for each year (87.9 mt dw/year through December 31, 2012; 116.6 mt dw/year as of January 1, 2013). The selected commercial shark fishermen would also have access to the non-sandbar LCS, SCS, and pelagic shark quotas. Commercial shark fishermen not participating in the shark research fishery may land non-sandbar LCS, SCS, and pelagic sharks subject to quotas and the retention limits per 50 CFR 635.27 and 635.24, respectively. In order to participate in the shark research fishery, commercial shark fishermen need to submit a completed Shark Research Fishery Application showing the vessel and owner(s) meet the specific criteria outlined below.

Research Objectives

Each year, NMFS will determine the research objectives for the upcoming shark research fishery. The research objectives are developed by a shark board, which is comprised of representatives within NMFS including representatives from the Southeast Fisheries Science Center (SEFSC) Panama City Laboratory, Northeast Fisheries Science Center (NEFSC) Narragansett Laboratory, the Southeast Regional Office of Protected Resources Division (SERO\PRD), and the HMS Management Division. The research objectives of the shark research fishery are primarily based on the research needs identified in shark stock assessments. Many of the research objectives for 2008 come from the Southeast Data, Assessment and Review (SEDAR) 11, 2005/2006 LCS stock assessment. These objectives were developed with input from non-governmental organizations, industry representatives, fishery managers, and academics present during the stock assessment workshops. In addition, the shark board identified additional needs for tagging studies, collection of genetic material, and controlled bottom longline (BLL) experiments to assess the impact of different hook types. Specifically, the research objectives for 2008 are to:

• collect reproductive and age data from sandbar sharks throughout the calendar year;

• collect reproductive and age data for Gulf of Mexico blacktip sharks for determination of the reproductive cycle (i.e., annual or biennial frequency);

• collect reproductive and age data from all species of sharks for additional species-specific assessments;

• monitor the size distribution of sandbar sharks and other species captured in the fishery;

• continue on-going tagging programs for identification of migration corridors and stock structure;

• maintain time-series of abundance from previously derived indices for the shark BLL observer program;

• acquire fin-clip samples of all species for genetic analysis;

• attach satellite archival tags to endangered smalltooth sawfish to provide information on critical habitat and preferred depth;

• attach satellite archival tags to prohibited dusky sharks to provide information on daily and seasonal movement patterns, and preferred depth; and,

• evaluate the effects of controlled gear experiments in order to determine the effects of potential hook changes to prohibited species interactions and fishery yields.

Selection Criteria

Shark Research Fishery Applications will only be accepted from commercial shark fishermen that hold a current directed or incidental limited access permit. The Shark Research Fishery Application includes, but is not limited to, a request for the following information: type of commercial shark permit possessed; past participation in the commercial shark fishery; past involvement and compliance with HMS observer programs per 50 CFR 635.7; past compliance with HMS regulations at 50 CFR part 635; availability to participate in the shark research fishery; willingness to fish in the regions and season requested; willingness to attend necessary meetings regarding the objectives and research protocols of the shark research fishery; and willingness to carry out the research objectives of the Agency. An applicant that has been charged criminally or civilly (i.e., issued a Notice of Violation and Assessment (NOVA) or Notice of Permit Sanction) for any HMS related violation will not be considered for participation in the shark research fishery. In addition, applicants that were selected to carry an observer in the previous two years for any HMS fishery, but failed to communicate with NMFS observer programs in order to arrange the placement of an observer before commencing any fishing trip that would have resulted in the incidental catch or harvest of any Atlantic HMS, per 50 CFR 635.7, will not be considered for participation in the 2008 shark research fishery. This includes applicants that were selected to carry an observer in the previous two years for any HMS fishery and failed to comply with all the observer regulations per 50 CFR 635.7, including failure to provide adequate sleeping accommodations per 50 CFR 635.7(e)(1), a sufficiently sized survival craft per 50 CFR 600.746(f)(6), or failure to pass a USCG safety examination per 50 CFR 600.746(c)(2). Exceptions will be made for applicants that were selected for HMS observer coverage but did not fish in the quarter when selected. Applicants that have been non-compliant with any of the HMS observer program regulations in the previous two years, as described above, may be eligible for future participation in shark research fishery activities by demonstrating compliance with observer regulations at 50 CFR 635.7.

Selection Process

NMFS will review all submitted applications that are deemed complete and develop a list of qualified applicants. A qualified applicant is an applicant that has submitted a complete application and has met the selection criteria detailed above. Qualified applicants are eligible to be selected by the SEFSC to participate in the shark research fishery for 2008. NMFS will provide the list of qualified applicants to the SEFSC. The SEFSC will then evaluate the list of qualified applicants and, based on the temporal and spatial needs of the research objectives, the availability of qualified applicants, and the available quota for a given year, will randomly select approximately 10 qualified applicants to conduct the prescribed research.

If deemed necessary, NMFS may hold a public meeting to allow the public to witness the selection of shark research permit recipients from the qualified applicant pool. If a public meeting is held, the public is welcome to observe the selection process, but will not be allowed to participate in or comment during the selection process. If a public meeting is deemed necessary, NMFS will announce details of a public selection meeting in a subsequent Federal Register notice.

Once the selection process is complete, NMFS will notify the selected applicants and issue the shark research fishery permits. If needed, NMFS will communicate with the shark research fishery permit holders to arrange a captain's meeting to discuss the research objectives and protocols. The shark research permit holders must contact the NMFS observer coordinator to arrange the placement of a NMFS-approved observer for each shark research trip.

A shark research permit will only be valid for the vessel and owner(s) and terms and conditions listed on the permit, and thus, cannot be transferred to another vessel or owner(s). Issuance of a shark research permit does not guarantee that the permit holder will be assigned a NMFS-approved observer on any particular trip. Rather, issuance indicates that a vessel may be issued a NMFS-approved observer for a particular trip, and on such trips, may be allowed to harvest Atlantic sharks, including sandbar sharks, in excess of the retention limits described in 50 CFR 635.24(a). The vessel would still be able to participate land non-sandbar, SCS, and pelagic sharks subject to existing retention limits on trips without a NMFS-approved observer. The shark research permit may be revoked or modified at any time and does not confer the right to engage in activities beyond those listed on the shark research fishery permit.

Commercial shark permit holders (directed and incidental) are invited to submit an application to participate in the shark research fishery on an annual basis. Permit applications can be found on the HMS Management Division's website at: http://www.nmfs.noaa.gov/sfa/hms/index.htm or by calling (301) 713-2347. Final decisions on the issuance of a shark research fishery permit will depend on the submission of all required information, and NMFS' review of applicant information as outlined above.

Authority: 16 U.S.C. 971 et seq. and 16 U.S.C. 1801 et seq.

Dated: June 16, 2008.
Alan D. Risenhoover
Director Office of Sustainable Fisheries, National Marine Fisheries Service.

[FR Doc. E8-13960 Filed 6-23-08; 8:45 am]

BILLING CODE 3510-22-S